DEPARTMENT OF THE INTERIOR

Minerals Management Service

Outer Continental Shelf Civil Penalties

AGENCY: Minerals Management Service (MMS), Interior.

ACTION: Notice summarizing review of the maximum daily civil penalty assessment.

SUMMARY: The Outer Continental Shelf Lands Act requires the MMS to review the maximum daily civil penalty assessment for violations of regulations governing oil and gas operations in the Outer Continental Shelf at least once every 3 years. This review ensures that the maximum penalty assessment reflects any increases in the Consumer Price Index as prepared by the Bureau of Labor Statistics, U.S. Department of Labor. After conducting the required review in August 2009, the MMS determined that no adjustment is necessary at this time.

FOR FURTHER INFORMATION CONTACT: Joanne McCammon, Safety and Enforcement Branch at (703) 787-1292 or e-mail at Joanne.McCammon@mms.gov.

SUPPLEMENTARY INFORMATION: The goal of the MMS Outer Continental Shelf (OCS) Civil Penalty Program is to ensure safe and clean operations on the OCS. By assessing and collecting civil penalties, the program is designed to encourage compliance with OCS statutes and regulations. Not all regulatory violations warrant a review to initiate civil penalty proceedings; however, violations that cause injury, death, or environmental damage, or pose a threat to human life or the environment, will trigger such review.

The Oil Pollution Act of 1990 (OPA 90) (Pub. L. 101-380) expanded and strengthened MMS's authority to impose penalties for violating regulations promulgated under the OCS Lands Act. Section 8201 of OPA 90, which amended section 24(b) of the OCS Lands Act, 43 U.S.C. 1350(b), directs the Secretary of the Interior to adjust the maximum civil penalty amount at least once every 3 years to reflect any increases in the Consumer Price Index (CPI). The purpose of this adjustment is to ensure that punitive assessments keep up with inflation. If an adjustment is necessary, MMS informs the public through publication in the Federal Register of the new maximum amount. The MMS uses Office of Management and Budget (OMB) guidelines for determining how penalty amounts should be rounded.

The MMS published regulations adjusting the civil penalty assessment to $25,000 per violation per day on August 8, 1997 (62 FR 42667); to $30,000 on October 29, 2003 (68 FR 61622); and to $35,000 on February 28, 2007 (72 FR 8897). In August 2009, MMS performed computations to determine if it should increase the current maximum civil penalty amount of $35,000 per violation per day. After running the computations, the MMS determined that the CPI did not increase enough to warrant raising the maximum civil penalty amount at this time. The MMS will monitor the CPI, and when the computations justify raising the maximum civil penalty amount, the MMS will publish a Notice in the Federal Register to notify the public of the increase.

Authority: 43 U.S.C. 1350.

Dated: January 4, 2010.
Chris Oynes,
Associate Director for Offshore Energy and Minerals Management.

[FR Doc. 2010-119 Filed 1-7-10; 8:45 am]

BILLING CODE 4310-MR-P